DEPARTMENT OF DEFENSE

Office of the Secretary

Defense Science Board

AGENCY: Department of Defense

ACTION: Notice of advisory committee meetings.

SUMMARY: The Defense Science Board Task Force on Nuclear Weapons Effects Enterprise will meet in closed session on May 17-18, 2007; at the Strategic Analysis Inc., 3601 Wilson Boulevard, Arlington, VA.

The mission of the Defense Science Board is to advise the Secretary of Defense and the Under Secretary of Defense for Acquisition, Technology & Logistics on scientific and technical matters as they affect the perceived needs of the Department of Defense. At these meetings, the Defense Science Board Task Force will: Review and assess for adequacy of the existing DoD standards for nuclear survivability, based on an assessment of current and emerging nuclear capabilities of potential adversaries.

In accordance with Section 10(d) of the Federal Advisory Committee Act, Public Law 92-463, as amended (5 U.S.C. App. II), it has been determined that these Defense Science Board Task Force meetings concern matters listed in 5 U.S.C. 552b(c)(1) and that, accordingly, the meetings will be closed to the public.

FOR FURTHER INFORMATION CONTACT: LCDR Clifton Phillips, USN, Defense Science Board, 3140 Defense Pentagon, Room 3C553, Washington, DC 20301-3140, via e-mail at clifton.phillips@osd.mil, or via phone at (703) 571-0083.

Dated: April 27, 2007.
Linda Bynum,
OSD Federal Register Liaison Officer, Department of Defense.

[FR Doc. 07-2177 Filed 5-2-07; 8:45 am]

BILLING CODE 5001-06-M